DEPARTMENT OF THE INTERIOR

Fish and Wildlife Service

[FWS-R1-R-2009-N00007; 1265-0000-10137-S3]

Kootenai National Wildlife Refuge, Bonners Ferry, ID

AGENCY: Fish and Wildlife Service, Interior.

ACTION: Notice of intent to prepare a comprehensive conservation plan and environmental assessment; and request for comments.

SUMMARY: We, the U.S. Fish and Wildlife Service (Service) intend to prepare a Comprehensive Conservation Plan (CCP) for the Kootenai National Wildlife Refuge (Refuge). We will also prepare an environmental assessment (EA) evaluating the potential effects of various CCP alternatives. The Refuge is located within Boundary County, Idaho. We are furnishing this notice to advise the public and other government agencies and Tribes of our intentions, and to obtain public comments, suggestions, and information on the scope of issues to be considered during the planning process.

DATES: We request your written comments on the scope of the CCP by March 25, 2009. All comments received during scoping will be considered during development of the Draft CCP and EA.

ADDRESSES: Address comments, questions, and requests for information to: Dianna Ellis, Kootenai National Wildlife Refuge, 287 Westside Road, Bonners Ferry, ID 83805. Comments may be faxed to the Refuge at (208) 267-5570, or e-mailed to FW1PlanningComments@fws.gov. Include “Kootenai Refuge CCP” in the subject line of your message. Additional information about the Refuge is available on the Internet at http://www.fws.gov/kootenai/. Additional information about the CCP planning process is available on the Internet at: http://www.fws.gov/pacific/planning/.

FOR FURTHER INFORMATION CONTACT: Dianna Ellis, Refuge Manager, Kootenai Refuge, phone (208) 267-3888.

SUPPLEMENTARY INFORMATION: The National Wildlife Refuge System (NWRS) Administration Act of 1966, as amended by the National Wildlife Refuge System Improvement Act of 1997 (16 U.S.C. 668dd-668ee), requires all lands within the NWRS to be managed in accordance with an approved CCP. A CCP guides refuge management decisions, and identifies long-range goals, objectives, and strategies for achieving the purposes for which the refuge was established. During the CCP planning process for Kootenai Refuge many elements will be considered, including wildlife and habitat protection and management, public use opportunities, and cultural resource protection.

Public input during the planning process is essential. To initiate the public scoping phase of the CCP planning process we held two public open house meetings in Bonners Ferry, Idaho, on January 23, 2009. We announced the meetings in a press release and in a planning update mailed to 239 addressees, including refuge neighbors, interested individuals and organizations, elected officials, Tribes, and local, State, and Federal government and nongovernment stakeholders. Approximately 30 people attended the meetings. Public scoping will continue until March 25, 2009.

The Refuge's CCP will describe desired Refuge conditions and the long-term goals, objectives, and strategies for achieving those conditions. To evaluate potential impacts of CCP alternatives, we will prepare an EA in accordance with the National Environmental Policy Act (NEPA) of 1969, as amended (42 U.S.C. 4371 et seq.)

Background

The Refuge was established in 1964 under the Migratory Bird Conservation Act “for use as an inviolate sanctuary, or for any other management purpose, for migratory birds” with emphasis on providing migration and breeding habitat for migratory waterfowl. The Refuge's habitats include wetlands, mixed moist deciduous and coniferous forest, riparian woodland, riverine, and dry forest. Managed grasslands and croplands are also present on the Refuge.

The Refuge supports tens of thousands of migrating waterfowl, especially during fall migration. The Refuge also provides important stop-over habitat for spring migratory swans that winter in southeastern Oregon and nest in northeastern British Columbia and northwestern Alberta. Habitat for the federally listed bull trout; winter habitat for deer and elk; and occasionally, habitat and/or travel corridors for wide-ranging species such as woodland caribou, grizzly bear, and gray wolves is also provided on the Refuge.

Preliminary Issues, Concerns, and Opportunities

We identified the following categories of preliminary issues for consideration in the planning process: water and wetland management, including dike maintenance and water rights; cropland management; integrated pest management; deer and elk management; maintenance and restoration of riparian, upland forest, and instream habitats; the Refuge's role in recovery of rare and listed fish species; providing sustainable wildlife-dependent recreation with a small staff and land base; reducing visitor conflicts and law enforcement violations; and managing on-going Refuge programs and commitments in an era of tight budgets. Additional issues may be identified during public scoping.

Public Availability of Comments

All comments we receive become part of the public record. Requests for comments will be handled in accordance with the Freedom of Information Act, NEPA, and Service and Department of the Interior policies and procedures. Before including your address, phone number, e-mail address, or other personal identifying information in your comment, you should be aware that your entire comment—including your personal identifying information—may be made publicly available at any time. While you can ask us to withhold it from public review, we cannot guarantee we will be able to do so.

Dated: January 6, 2009.
David J. Wesley,
Acting Regional Director, Region 1, Portland, Oregon.

[FR Doc. E9-3763 Filed 2-20-09; 8:45 am]

BILLING CODE 4310-55-P